DEPARTMENT OF COMMERCE

Foreign-Trade Zones Board

[Order No. 1950]

Reorganization of Foreign-Trade Zone 207 Under Alternative Site Framework, Richmond, Virginia

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Capital Region Airport Commission, grantee of Foreign-Trade Zone 207, submitted an application to the Board (FTZ Docket B-39-2014, docketed 05-16-2014) for authority to reorganize under the ASF with a service area consisting of the Counties of Amelia, Appomattox, Brunswick, Buckingham, Caroline, Charles City, Charlotte, Chesterfield, Cumberland, Dinwiddie, Essex, Greensville, Goochland, Hanover, Henrico, King and Queen, King George, King William, Lancaster, Lunenburg, Mecklenburg, Middlesex, New Kent, Northumberland, Nottoway, Powhatan, Prince Edward, Prince George, Richmond and Westmoreland and the Cities of Colonial Heights, Emporia, Hopewell, Petersburg and Richmond, Virginia, within and adjacent to the Richmond Customs and Border Protection port of entry, and FTZ 207's existing Sites 1, 2, and 3 would be categorized as magnet sites;

Whereas, notice inviting public comment was given in the Federal Register (79 FR 29414, 05-22-2014) and the application has been processed pursuant to the FTZ Act and the Board's regulations; and,

Whereas, the Board adopts the findings and recommendations of the examiner's report, and finds that the requirements of the FTZ Act and the Board's regulations are satisfied;

Now, therefore, the Board hereby orders:

The application to reorganize FTZ 207 under the ASF is approved, subject to the FTZ Act and the Board's regulations, including Section 400.13, to the Board's standard 2,000-acre activation limit for the zone and to a five-year ASF sunset provision for magnet sites that would terminate authority for Sites 2 and 3 if not activated by October 31, 2019.

Signed at Washington, DC, this 2nd day of October 2014.
Paul Piquado,
Assistant Secretary of Commerce for Import Administration, Alternate Chairman, Foreign-Trade Zones Board.
Attest:
Andrew McGilvray,
Executive Secretary.

[FR Doc. 2014-24721 Filed 10-16-14; 8:45 am]

BILLING CODE 3510-DS-P